ENVIRONMENTAL PROTECTION AGENCY

40 CFR Part 62

[Region II Docket No. NY50-224b; FRL-7024-8]

Approval and Promulgation of State Plans for Designated Facilities; New York

AGENCY: Environmental Protection Agency.

ACTION: Proposed rule.

SUMMARY: The Environmental Protection Agency (EPA) is proposing to approve a negative declaration submitted by the State of New York. The negative declaration satisfies EPA's promulgated Emission Guidelines (EG) for existing commercial and industrial solid waste incinerator (CISWI) sources. In accordance with the EG, states are not required to submit a plan to implement and enforce the EG if there are no existing CISWI sources in the state and it submits a negative declaration letter in place of the State Plan.

DATES: Written comments must be received on or before September 6, 2001.

ADDRESSES: All comments should be addressed to:

Raymond Werner, Chief, Air Programs Branch, Environmental Protection Agency, Region II Office, 290 Broadway, New York, New York 10007-1866.

Copies of the State submittal are available at the following addresses for inspection during normal business hours:

Environmental Protection Agency, Region II Office, 290 Broadway, 25the Floor, New York, New York 10007-1866.

New York State Department of Environmental Conservation, Division of Air Resources, 625 Broadway, Albany, New York 12233-3251.

Environmental Protection Agency, Air and Radiation Docket and Information Center, Air Docket (6102), 401 M Street, S.W., Washington, D.C. 20460.

FOR FURTHER INFORMATION CONTACT: Ted Gardella, Air Programs Branch, Environmental Protection Agency, 290 Broadway, 25th Floor, New York, New York 10007-1866, (212) 637-3892.

SUPPLEMENTARY INFORMATION: For additional information see the direct final rule which is located in the Rules Section of this Federal Register.

The Environmental Protection Agency (EPA) is proposing to approve a negative declaration submitted by the State of New York on February 1, 2001. The negative declaration officially certifies to EPA that, to the best of the State's knowledge, there are no commercial and industrial solid waste incinerator sources in operation in the State of New York. This negative declaration concerns existing commercial and industrial solid waste incinerators throughout the State of New York. The negative declaration satisfies the federal Emission Guidelines (EG) requirements of EPA's promulgated regulation entitled “Standards of Performance for New Stationary Sources and Emission Guidelines for Existing Sources: Commercial and Industrial Solid Waste Incineration Units” (65 FR 75338, December 1, 2000; and corrected at 66 FR 16605, March 27, 2001).

Dated: July 26, 2001.
Kathleen C. Callahan,
Acting Regional Administrator, Region 2.

[FR Doc. 01-19559 Filed 8-6-01; 8:45 am]

BILLING CODE 6560-50-P